DEPARTMENT OF TRANSPORTATION

Federal Transit Administration

Notice of Intent To Prepare an Environmental Impact Statement for the Kitsap Transit Fast Ferry Terminal Project, King County, Washington

AGENCY: Federal Transit Administration (FTA), Department of Transportation (DOT).

ACTION: Notice of Intent to prepare an Environmental Impact Statement.

SUMMARY: The Federal Transit Administration (FTA), as Federal lead agency, and Kitsap Transit, as local project sponsor and joint lead agency, issue this notice to advise the public that they intend to prepare an environmental impact statement (EIS) pursuant to the National Environmental Policy Act (NEPA) for the Kitsap Transit Fast Ferry Terminal Project (Project) located in the City of Seattle, King County, Washington. The Project would construct a new fast ferry terminal on the downtown Seattle waterfront in order to expand passenger-only ferry (POF) terminal facility capacity.

DATES: Comments related to the scope of the EIS for this Project must be received on or before August 11, 2025.

ADDRESSES: Comments on the scope of the EIS should be directed to: Steffani Lillie, Kitsap Transit Service and Capital Development Director, 60 Washington Avenue, Suite 200, Bremerton, WA 98337; by email to ktplanning@kitsaptransit.com, by Project website at https://www.kitsaptransit.com/seattle-fast-ferry-terminal-project; or by telephone at (360) 478-6931. Requests for alternative formats: (360) 479-4348.

FOR FURTHER INFORMATION CONTACT: For FTA: Barney Remington, FTA Environmental Protection Specialist, Region 10, FTA.TRO10.Environmental@dot.gov, (206) 220-7966. For Kitsap Transit: Steffani Lillie, Kitsap Transit Service and Capital Development Director, ktplanning@kitsaptransit.com, (360) 478-6931.

SUPPLEMENTARY INFORMATION: FTA and Kitsap Transit conducted early scoping during the Project's site screening and alternatives development phase. Early scoping is an optional step in the NEPA process that invites input from stakeholder agencies, tribes, members of the public, and other interested parties early in project planning. Early scoping was also conducted under the Washington State Environmental Policy Act (SEPA) rules regarding expanded scoping (Washington Administrative Code 197-11-410). Kitsap Transit is the lead agency under SEPA. During early scoping, FTA and Kitsap Transit published a notice (87 FR 29212) to advise stakeholder agencies, tribes, and the public about the Project and invited comments on:

• The Project's proposed purpose and need statement developed for the Early Scoping Notice.

• The refined list of screening criteria developed through early public outreach as provided in the Early Scoping Information Report in May 2022.

• The potential impacts and benefits of the Project.

• Other considerations relevant to the evaluation of alternatives (e.g., other planned future development projects in the study area).

The comment period closed on June 13, 2022, and a total of 57 comments were received. These comments were summarized in an Early Scoping Summary report in August 2022. Kitsap Transit subsequently conducted preliminary site screening using the criteria refined through early scoping to identify reasonable alternatives. The results of this screening are detailed in the Preliminary Screening and Site Evaluation Report in July 2023. The reports, along with other Project information, are available on the project website: https://www.kitsaptransit.com/seattle-fast-ferry-terminal-project, by contacting the project email at ktplanning@kitsaptransit.com or the project phone line at (360) 478-6931.

FTA has identified federal, state and local agencies that will be invited to be involved in the EIS process as cooperating or participating agencies, as well as tribes that will be invited to be involved as participating agencies.

FTA has determined that the Project will not be evaluated as a major project, as defined in 23 U.S.C. 139(a)(7).

I. Purpose and Need for the Proposed Action

The purpose of the Project is to improve regional mobility through the expanded passenger-only ferry (POF) terminal facilities on the downtown Seattle waterfront to:

• Increase vessel docking capacity.

• Increase passenger staging capacity and improve rider amenities, including restrooms and bicycle storage.

• Incorporate shoreside infrastructure and equipment to support electric vessel charging.

• Increase integration of POF travel with other transit modes.

• Maintain or improve rider accessibility to Seattle business, employment, cultural, and retail destinations.

• Create opportunities for growth for regional POF routes throughout the Puget Sound Region.

• Improve access to jobs and housing opportunities in regional growth centers.

The need for the Project is as follows:

• The current POF terminal, Pier 50, is the only public facility of its kind in downtown Seattle, and can only accommodate two vessels at one time.

• The Pier 50 POF terminal facility does not have shoreside space for equipment and infrastructure needed to support future electric vessel charging, such as energy storage systems.

• Kitsap Transit's POF service frequency cannot be increased during peak commute periods due to the limited landing site capacity. Current service is limited to 12 landings from the three Kitsap Transit routes within the peak period.

• Terminal docking congestion leads to cascading departure delays and schedule disruptions.

• Access between the more affordable housing on the Kitsap peninsula and the downtown Seattle job center is constrained due to limited frequency of the POF ferry service. Alternatives to POF ferry service include auto/passenger ferry service provided by Washington State Ferries, bus transit, or driving, all of which result in travel times roughly twice as long as Kitsap Transit's POF service routes.

• The Puget Sound Regional Council (PSRC) 2020 Puget Sound Passenger-only Ferry Study identified the lack of landing site capacity in downtown Seattle as a barrier to potential future routes or service expansion.

II. Description of Proposed Action and Alternatives

Kitsap Transit launched the Project to expand POF terminal facility capacity in downtown Seattle. Sites along the downtown Seattle waterfront are limited and in demand for water-dependent uses, and available space is constrained. Development of a new POF terminal facility would improve reliability of this regional transit service by addressing the current limited POF landing site capacity on the Seattle waterfront at the current Pier 50 location.

Three build alternatives and a no-build alternative are anticipated to be evaluated in the EIS, as described in the Preliminary Screening and Site Evaluation Report (July 2023). Kitsap Transit has identified the minimum physical and operational requirements of the Project, which will be integrated into the design of all alternatives and described as follows:

• Four operating slips for vessel operations, with sufficient in-water space to allow simultaneous maneuvering of at least two vessels.

• A high level of pedestrian and multi-modal connectivity to provide riders with access to jobs, services, and connections to other regional transit modes (such as light rail and bus service).

• The ability for queuing and disembarking of up to 700 passengers from all three Kitsap Transit routes simultaneously.

• Vehicle access for deliveries, passenger pick-up/drop-off spaces, and storage/access for bikes and scooters.

• Restrooms and other passenger amenities, such as ticket vending machines and electronic signage.

• Administrative office space, storage for supplies and operating equipment, and maintenance vehicle parking.

Kitsap Transit anticipates that vessel electrification or use of alternative fuels will be required for ferries to achieve state goals for reduced or zero emissions. The new facility would include additional upland and in-water space where infrastructure could be added for future electric charging of vessels or to accommodate the future adoption of other alternative fuels. Although future service expansion or new routes are not planned at this time, the Project would include sufficient additional space to not preclude future expansion of existing service and/or new routes.

Kitsap Transit has identified the following three potential sites on the Seattle waterfront where the Project could be sited: Pier 46 North Apron, Pier 48, and Pier 58. At each site alternative, the Project would include construction of the following elements:

• Overwater structures, including vessel slips and passenger ramps, with capacity for four passenger-only ferries.

• Shoreside electric charging equipment to support future electric vessel operations.

• A terminal building constructed on an over-water pier with passenger queuing and egress space on all three Kitsap Transit routes, and associated crew and office spaces.

• Upland pedestrian and multi-modal pathways to connect passengers with Alaskan Way and existing pedestrian connections.

• Vehicle access for deliveries, passenger pick-up/drop-off spaces, and storage/access for bikes and scooters.

III. Summary of Expected Impacts

Consistent with NEPA, FTA and Kitsap Transit will evaluate, with input from the public, tribes, and stakeholder agencies, the reasonably foreseeable impacts of the alternatives on the natural, built, and socioeconomic environments. Likely areas of investigation include community facilities, transportation, land use and consistency with applicable plans, land acquisition and displacements, socioeconomics, parks and recreation resources, public services/safety/security, utilities, historic and archaeological resources, visual and aesthetic resources, air quality, noise and vibration, energy use, geology and soils, hazardous materials, safety and security, and ecosystems, including threatened and endangered species and marine mammals. The EIS will evaluate short-term construction impacts and long-term operational impacts. It will also consider reasonably foreseeable impacts. The EIS will also propose measures to avoid, minimize, or mitigate significant adverse impacts.

FTA and Kitsap Transit will comply with all Federal environmental laws, regulations, and executive orders applicable to the proposed project during the environmental review process.

IV. Anticipated Federal Permits and Other Authorizations

Advisory Council on Historic Preservation:

National Historic Preservation Act, Section 106 Review

Federal Transit Administration:

NEPA Final Environmental Impact Statement and Record of Decision

National Historic Preservation Act, Section 106 Review

Section 4(f) Requirements

Federal Emergency Management Agency:

Conditional Letter of Map Revision (if needed)

Letter of Map Revision (if needed)

United States Army Corps of Engineers:

Clean Water Act, Section 404 Permit (if needed) (including WA Department of Ecology Water)

Quality Certification: Clean Water Act (Section 401)

Rivers and Harbors Act, Section 10 Permit (if needed)

Clean Water Act, Section 408 Permit (if needed)

United States Coast Guard:

Rivers and Harbors Act, Section 10 Permit (if needed)

United States Fish and Wildlife Service:

Endangered Species Act Consultation

National Oceanic and Atmospheric Administration and National Marine Fisheries Service:

Endangered Species Act Consultation

Magnuson-Stevens Fishery Conservation and Management Act, Essential Fish Habitat Consultation

Marine Mammal Take Incidental Harassment Authorization (if needed)

United States Department of the Interior:

Section 4(f) Requirements

Land and Water Conservation Fund Act, Section 6(f) (if needed)

V. Schedule for the Decision-Making Process

Below is a tentative schedule for the decision-making process, including environmental review milestones:

Draft EIS publication: June 2026.

Confirmation or modification of the Preferred Alternative: September 2026.

Final EIS publication: May 2027.

Record of Decision: September 2027.

As noted in the tentative schedule, FTA and Kitsap Transit intend to complete the EIS for the Project within two years, measured from the date of the publication of this notice to issuance of the Final EIS. FTA and Kitsap Transit will accept public comments on the scope of the EIS (i.e., the information presented in this notice) at https://www.kitsaptransit.com/seattle-fast-ferry-terminal-project until August 11, 2025. FTA and Kitsap Transit will then consider those comments as they prepare the Draft EIS, and will announce the availability of the Draft EIS in the Federal Register and via local media outlets. Kitsap Transit expects the Draft EIS will be available for a minimum of 30 days for the public comment period starting in June 2026. The Draft EIS will be distributed and available for review and comment by stakeholder agencies, tribes, the public and other interested parties prior to a public hearing. FTA and Kitsap Transit will consider substantive comments timely submitted during the public comment period and anticipate issuing a Final EIS in May 2027 and issuing a record of decision in September 2027. The Final EIS will identify a preferred alternative and any necessary mitigation commitments. FTA and Kitsap Transit expect that all Federal environmental authorization decisions for the construction of the Project will be completed before or within a reasonable period following issuance of the record of decision.

Notices of public meetings, including hearings, have been, and will continue to be, given through a variety of media providing the time and place of the meeting(s) along with other relevant information. Meeting date, time, and location information can be found on the Project website at https://www.kitsaptransit.com/seattle-fast-ferry-terminal-project. Public meeting locations will comply with the Americans with Disabilities Act. People needing special accommodations should contact Kitsap Transit via email at ktplanning@kitsaptransit.com or via telephone at (360) 478-6931. People needing information on alternative formats can call (360) 479-4348.

Susan K. Fletcher,
Regional Administrator, FTA Region 10.

[FR Doc. 2025-11897 Filed 6-26-25; 8:45 am]

BILLING CODE 4910-57-P